DEPARTMENT OF VETERANS AFFAIRS

38 CFR Part 3

Processing Claims, Sergeant First Class Heath Robinson Honoring Our Promise To Address Comprehensive Toxics Act of 2022, or the Honoring Our PACT Act of 2022

AGENCY: Department of Veterans Affairs.

ACTION: Notification of sub-regulatory guidance.

SUMMARY: On August 10, 2022, the President signed the Sergeant First Class Heath Robinson Honoring our Promise to Address Comprehensive Toxics Act of 2022, or the Honoring our PACT Act of 2022 (PACT Act) into law, establishing substantial legislative changes in laws administered by the Department of Veterans Affairs (VA).

DATES: VA anticipates that the processing of PACT Act-related claims will begin on January 1, 2023.

FOR FURTHER INFORMATION CONTACT: Jessica Pierce, Assistant Director, Policy Staff, Compensation Service, Department of Veterans Affairs, 810 Vermont Avenue NW, Washington, DC, 202-461-9700. (This is not a toll-free number.)

SUPPLEMENTARY INFORMATION: VA is drafting regulations to implement the PACT Act. Prior to the promulgation of those regulations, VA is providing sub-regulatory guidance to claims processors in the form of a Policy Letter. The Policy Letter, as it will be provided to claims processors, can be found as a supporting document at https://www.regulations.gov.

On August 10, 2022, Public Law 117-168, the Sergeant First Class Heath Robinson Honoring our Promise to Address Comprehensive Toxics Act of 2022, or the Honoring our PACT Act of 2022, was signed into law. This historic, multifaceted law, which triggers changes to disability compensation examination requirements when there is evidence a Veteran has participated in a toxic exposure risk activity, expands presumptive locations associated with radiation exposure, expands presumptive conditions and locations associated with herbicide exposure, amends the statute involving certain benefits for Persian Gulf War Veterans, establishes presumptive conditions associated with exposure to burn pits and other toxins, and provides an avenue for a claimant-elected reevaluation of previously denied dependency and indemnity compensation (DIC) claims that can result in retroactive effective dates for benefits.

Although the PACT Act does not explicitly require VA to implement its provisions through regulations, VA currently is drafting regulations to codify the statutory changes in regulation and to address any gaps and ambiguity in the statutory language. Due to the time required to promulgate regulations, VA will implement the law and begin processing PACT Act-related claims on January 1, 2023, based on the sub-regulatory guidance contained in the Policy Letter associated with this Notice. The issuance of this Policy Letter has the benefit of allowing VA to operationalize the PACT Act and deliver earned benefits to Veterans and their dependents as quickly as possible while simultaneously continuing efforts to promulgate the implementing regulations. Nothing in this guidance affects or alters section 804 of the Camp Lejeune Justice Act of 2022.

The PACT Act contains nine titles, each containing multiple sections. Not all titles and sections impact compensation, pension and/or death benefits, as the law also addresses matters such as the expansion of health care eligibility and requirements for research studies. This Policy Letter focuses on the titles and sections that impact eligibility for disability compensation and survivor benefits. The Policy Letter provides guidance to claims processors for implementing the provisions of sections 102, 203, 204, 302, 303, 401, 402, 403, 404, 405 and 406 of this law.

Signing Authority

Denis McDonough, Secretary of Veterans Affairs, approved this document on November 15, 2022, and authorized the undersigned to sign and submit the document to the Office of the Federal Register for publication electronically as an official document of the Department of Veterans Affairs.

Luvenia Potts,
Regulation Development Coordinator, Office of Regulation Policy & Management, Office of the Secretary, Department of Veterans Affairs.

[FR Doc. 2022-27861 Filed 12-21-22; 8:45 am]

BILLING CODE 8320-01-P